POSTAL REGULATORY COMMISSION

Sunshine Act Meetings

Time and Date: 10:30 a.m., Monday, November 2, 2009.

Place: Commission conference room, 901 New York Avenue, NW., Suite 200, Washington, DC 20268-0001.

Status: Parts of this meeting will be open to the public. The rest of the meeting will be closed to the public.

Matters to be Considered: 1. Review of postal-related Congressional actions (open). 2. Reports on Commissioner travel (open). 3. Pending litigation (USPS v. PRC) (closed). 4. Personnel matters (closed).

Contact Person for More Information: Stephen L. Sharfman, general counsel, Postal Regulatory Commission, 202-789-6820 or stephen.sharfman@prc.gov.

Dated: October 26, 2009.
Shoshana M. Grove,
Secretary.

[FR Doc. E9-26145 Filed 10-27-09; 11:15 am]

BILLING CODE 7710-FW-P